NUCLEAR REGULATORY COMMISSION

[Docket Nos. 50-266, 50-301, 50-282, and 50-306]

Nuclear Management Company, LLC; Point Beach Nuclear Plant, Units 1 and 2; Prairie Island Nuclear Generating Plant, Units 1 and 2; Environmental Assessment and Finding of No Significant Impact

The U.S. Nuclear Regulatory Commission (NRC) is considering issuance of exemptions from Title 10 of the Code of Federal Regulations (10 CFR), section 50.71(e)(4), for Facility Operating License Nos. DPR-24, DPR-27, DPR-42, and DPR-60, issued to Nuclear Management Company, LLC (NMC, the licensee), for operation of the Point Beach Nuclear Plant (PBNP), Units 1 and 2, located in Manitowoc County, Wisconsin, and the Prairie Island Nuclear Generating Plant (PINGP), Units 1 and 2, located in Goodhue County, Minnesota. Therefore, as required by 10 CFR 51.21, the NRC is issuing this environmental assessment and finding of no significant impact.

Environmental Assessment

Identification of the Proposed Action

The proposed actions would exempt the licensee from the requirements of 10 CFR 50.71(e)(4) regarding submission of revisions to the updated Final Safety Analysis Report (FSAR). The updated FSAR at PINGP is called the Updated Safety Analysis Report (USAR). Under the proposed exemptions, the licensee would submit updates to the updated FSARs once per fuel cycle, within 6 months following completion of each PBNP, Unit 1, refueling outage and within 6 months of each PINGP, Unit 2, refueling outage, respectively, not to exceed 24 months from the last submittal for either site. PBNP and PINGP are two-unit sites, each site sharing a common updated FSAR.

The proposed actions are in accordance with the licensee's application dated October 12, 2005.

The Need for the Proposed Action

Section 50.71(e)(4) requires licensees to submit updates to their FSARs annually or within 6 months after each refueling outage provided that the interval between successive updates does not exceed 24 months. Since the units for each site share a common FSAR, the licensee must update the same document annually or within 6 months after a refueling outage for each unit. The underlying purpose of the rule was to relieve licensees of the burden of filing annual FSAR revisions while ensuring that such revisions are made at least every 24 months. The NRC reduced the burden, in part, by permitting a licensee to submit its FSAR revisions 6 months after refueling outages for its facility, but it did not provide in the rule for multiple-unit facilities sharing a common FSAR. Rather, the NRC stated, “[w]ith respect to the concern about multiple facilities sharing a common FSAR, licensees will have maximum flexibility for scheduling updates on a case-by-case basis” (57 FR 39355). Allowing the exemptions would keep the updated FSARs current within 24 months of the last revision, while reducing the burden on the licensee.

Environmental Impacts of the Proposed Action

The NRC has completed its evaluation of the proposed actions and concludes that they involve administrative activities unrelated to plant operation, and therefore there would be no significant environmental impacts associated with the proposed actions.

The proposed actions will not significantly increase the probability or consequences of accidents. No changes are being made in the types of effluents that may be released off site.

There is no significant increase in the amount of any effluent released off site. There is no significant increase in occupational or public radiation exposure. Therefore, there are no significant radiological environmental impacts associated with the proposed actions.

With regard to potential non-radiological impacts, the proposed actions do not have a potential to affect any historic sites. They do not affect non-radiological plant effluents and have no other environmental impact. Therefore, there are no significant non-radiological environmental impacts associated with the proposed actions.

Accordingly, the NRC concludes that there are no significant environmental impacts associated with the proposed actions.

Environmental Impacts of the Alternatives to the Proposed Action

As an alternative to the proposed actions, the NRC staff considered denial of the proposed actions (i.e., the “no-action” alternative). Denial of the application would result in no change in current environmental impacts. The environmental impacts of the proposed actions and the alternative action are similar.

Alternative Use of Resources

The proposed actions do not involve the use of any different resources than those previously considered in the Final Environmental Statement for PBNP, dated May 1972; in NUREG-1437, Supplement 23, “Generic Environmental Impact Statement for License Renewal of Nuclear Plants [regarding PBNP],” dated August 2005; and in the Final Environmental Statement for PINGP, dated May 1973.

Agencies and Persons Consulted

In accordance with its stated policy, the staff consulted with the Wisconsin State official, Mr. J. Kitsembel of the Public Service Commission, on April 24, 2006, and with the Minnesota State official, Ms. D. Pile of the Commerce Department, on April 26, 2006, regarding the environmental impact of the proposed actions. The State officials had no comments.

Finding of No Significant Impact

On the basis of the environmental assessment, the NRC concludes that the proposed actions will not have a significant effect on the quality of the human environment. Accordingly, the NRC has determined not to prepare an environmental impact statement for the proposed actions.

For further details with respect to the proposed actions, see the licensee's letter dated October 12, 2005. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or send an e-mail to pdr@nrc.gov.

Dated at Rockville, Maryland, this 11th day of May 2006.
For the Nuclear Regulatory Commission.
Carl F. Lyon,
Project Manager, Plant Licensing Branch III-1, Division of Operating Reactor Licensing, Office of Nuclear Reactor Regulation.

[FR Doc. E6-7572 Filed 5-17-06; 8:45 am]

BILLING CODE 7590-01-P